NATIONAL CREDIT UNION ADMINISTRATION

Privacy Act of 1974; System of Records

AGENCY: National Credit Union Administration.

ACTION: Rescindment of a system of records notice.

SUMMARY: NCUA-5, Unofficial Personnel and Employee Development/Correspondence Records is a system of records that covers unofficial personnel and related records maintained by NCUA staff to facilitate day-to-day administrative activities. The records are covered by OPM/GOVT-1 and OPM/GOVT-2 and therefore, the NCUA is proposing that NCUA-5 be rescinded. The rescission will not affect business and will likewise not create any additional privacy risks for the individuals whose information is covered by NCUA-5 (NCUA employees). Rather, the rescission will increase the NCUA's compliance with OMB Circular A-108, Section 6, i. (December 23, 2016).

DATES: There are no dates associated with this rescission because the records will continue to be maintained pursuant to OPM/GOVT-1 and OPM/GOVT-2.

ADDRESSES: You may submit comments by any of the following methods, but please send comments by one method only:

• Federal eRulemaking Portal: http://www.regulations.gov. Follow the instructions for submitting comments.

• NCUA Website: http://www.ncua.gov/RegulationsOpinionsLaws/proposed_regs/proposed_regs.html. Follow the instructions for submitting comments.

• Email: Address to regcomments@ncua.gov. Include “[Your name]—Comments on NCUA Consumer Complaints Against Federal Credit Unions SORN” in the email subject line.

• Fax: (703) 518-6319. Use the subject line described above for email.

• Mail: Address to Gerard Poliquin, Secretary of the Board, National Credit Union Administration, 1775 Duke Street, Alexandria, Virginia 22314-3428.

• Hand Delivery/Courier: Same as mail address.

FOR FURTHER INFORMATION CONTACT: Linda Dent, Senior Agency Official for Privacy, Office of General Counsel, the National Credit Union Administration, 1775 Duke Street, Alexandria, Virginia 22314, or telephone: (703) 518-6540.

SUPPLEMENTARY INFORMATION: The NCUA is proposing to rescind NCUA-5, Unofficial Personnel and Employee Development/Correspondence Records because the records covered by NCUA-5 are also covered by government-wide SORNs, OPM/GOVT-1 and OPM/GOVT-2. Following the rescission of NCUA-5, the NCUA will continue to maintain and use the records as it previously had, but will rely on the government-wide SORNs opposed to its own. A side-by-side comparison of the types of records, the purposes and the routine uses in NCUA-5 and those in OPM/GOVT-1 and OPM/GOVT-2 was conducted to ensure the proposed rescission would not orphan any Privacy Act records and was otherwise in keeping with the spirit of the Privacy Act's notice related provisions. The NCUA's proposal to rescind NCUA-5 is part of an effort on the NCUA's part to increase compliance with OMB Circular A-108, Section 6, i. (December 23, 2016).

System Name and Number: NCUA-5, Unofficial Personnel and Employee Development/Correspondence Records.

History: The NCUA originally published NCUA-5 on January 21, 2001 (65 FR 3486). The NCUA republished NCUA-5 on December 27, 2006 (71 FR 77807), and July 16, 2010 (75 FR 41539). Both of the publications were of full republications of the NCUA's SORNs, neither of which included substantive changes to NCUA-5.

By the National Credit Union Administration Board on August 9, 2018.
Gerard Poliquin,
Secretary of the Board.

[FR Doc. 2018-17518 Filed 8-14-18; 8:45 am]

BILLING CODE P